DEPARTMENT OF JUSTICE

Notice of Lodging of Consent Decree Pursuant to the Comprehensive Environmental Response, Compensation and Liability Act and the Oil Pollution Act

In accordance with Departmental policy, 28 CFR 50.7, the Department of Justice gives notice that a proposed consent decree, in United States v. Petroleum Specialties, Inc., et al., Civil No. 99-72421 (E.D. Mich.), was lodged with the United States District Court for the Eastern District of Michigan on December 7, 2000, pertaining to the Petroleum Specialties, Inc. Site (the “Site”), located in Flat Rock, Wayne County, Michigan. The proposed consent decree would resolve the United States' civil claims against Petroleum Specialties, Inc. (“PSI”) and Marvin Fleischman (collectively, the “Settling Defendants”), under Sections 107(a) and 113(g) of the Comprehensive Environmental Response, Compensation, and Liability Act of 1980, as amended (“CERCLA”), 42 U.S.C. §§ 9607(a) and 9613(g), and against PSI under Sections 1002, 1015 and 1017 of the Oil Pollution Act of 1990 (“OPA”), 33 U.S.C. §§ 2702, 2715 and 2717, in connection with the Site.

Under the proposed consent decree, PSI stipulates to entry of a judgment against itself in the amount of $6 million for federal Response Costs and Removal Costs incurred at the Site. In addition, the proposed consent decree requires Marvin Fleischman to make payments totaling $150,000 to the United States for federal Response Costs and Removal Costs incurred at the Site following entry of the proposed consent decree. The consent decree includes, inter alia, a covenant not to sue by the United States under Sections 106 and 107 of CERCLA, 42 U.S.C. §§ 9606 and 9607, and under Section 1002(b)(1) of OPA, 33 U.S.C. § 2702(b)(1), and provisions relating to Settling Defendants' receipt of insurance proceeds for the Site.

The Department of Justice will receive, for a period of thirty (30) days from the date of this publication, comments relating to the proposed consent decree. Comments should be addressed to the Assistant Attorney General, Environmental and Natural Resources Division, United States Department of Justice, Washington, DC 20530, and should refer to United States v. Petroleum Specialties, Inc., et al., Civil No. 99-72421 (E.D. Mich), and DOJ Reference Nos. 90-11-2-1374 and 90-5-1-1-4530.

The proposed consent decree may be examined at: (1) The Office of the United States Attorney for the Eastern District of Michigan, Suite 2001, 211 West Fort Street, Detroit, Michigan 48226-3211 (313-226-9790); and (2) the United States Environmental Protection Agency (Region 5), 77 West Jackson Boulevard, Chicago, Illinois 60604-3590 (contact: Diana Embil (312-886-7889)). A copy of the proposed consent decree may be obtained by mail from the Consent Decree Library, U.S. Department of Justice, P.O. Box 7611, Washington, DC 20044-7611. In requesting a copy, please refer to the referenced case and DOJ Reference Numbers and enclose a check in the amount of $8.25 for the consent decree and one appendix (33 pages at 25 cents per page reproduction costs), made payable to the Consent Decree Library.

Bruce S. Gelber,
Chief, Environmental Enforcement Section, Environment and Natural Resources Division.

[FR Doc. 00-33249 Filed 12-27-00; 8:45 am]

BILLING CODE 4410-15-M